DEPARTMENT OF LABOR

Employment and Training Administration

[TA-W-59,183]

Gehl Company, West Bend, WI; Notice of Affirmative Determination Regarding Application for Reconsideration

By letter dated June 28, 2006, the United Steelworkers of America, requested administrative reconsideration of the Department of Labor's Notice of Negative Determination Regarding Eligibility to Apply for Worker Adjustment Assistance and Alternative Trade Adjustment Assistance applicable to workers of the subject firm. The denial notice was signed on June 7, 2006, and published in the Federal Register on July 14, 2006 (71 FR 40160).

The initial investigation resulted in a negative determination based on the finding that the subject firm did not import agricultural implements or shift production abroad in 2004, 2005, or during the period of January through March 2006. Furthermore, the Department surveyed the subject firm's major declining customers resulting in the revelation of minimal imports of agricultural implements during the relevant period and increased reliance on purchases from other domestic sources.

The Department reviewed the request for reconsideration and has determined that the petitioner has provided additional information regarding a shift in the firm's production of parts and components. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC, this 2nd day of August 2006.
Linda G. Poole,
Certifying Officer, Division of Trade Adjustment Assistance.

[FR Doc. E6-13186 Filed 8-10-06; 8:45 am]

BILLING CODE 4510-30-P